DEPARTMENT OF COMMERCE

International Trade Administration

University of Florida; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5:00 p.m. in Room 4211, U.S. Department of Commerce, 14th and Constitution Avenue, NW, Washington, DC.

Docket Number: 99-029. Applicant: University of Florida, Gainesville, FL 32611-6200. Instrument: Fiber Raman Laser, Model FRL-1480-600. Manufacturer: IP Fibre Devices Ltd., United Kingdom. Intended Use: See notice at 64 FR 70213, December 16, 1999.

Comments: None received. Decision: Approved. No instrument of equivalent scientific value to the foreign instrument, for such purposes as it is intended to be used, is being manufactured in the United States. Reasons: The foreign instrument provides: (1) High power output in the 300-600 mW range, (2) continuous working operation, (3) single mode output and (4) frequency output in the 1483-1484.5 nm range with an emission bandwidth between 1.0-1.5 nm. The National Institute of Standards and Technology and a domestic manufacturer of similar equipment advise that (1) these capabilities are pertinent to the applicant's intended purpose and (2) they know of no domestic instrument or apparatus of equivalent scientific value to the foreign instrument for the applicant's intended use.

We know of no other instrument or apparatus of equivalent scientific value to the foreign instrument which is being manufactured in the United States.

Dated: February 4, 2000.
Frank W. Creel,
Director, Statutory Import Programs Staff.

[FR Doc. 00-3263 Filed 2-10-00; 8:45 am]

BILLING CODE 3510-DS-P